DEPARTMENT OF JUSTICE

Notice of Lodging of Consent Decree Under the Comprehensive Environmental Response, Compensation, and Liability Act

Notice is hereby given that on August 29, 2002, a proposed consent decree in United States v. Sprague Energy Corp. et al., Civil Action No. 7:01-CV-14-F(1), was lodged with the United States District Court for the Eastern District of North Carolina.

The defendants are Axel Johnson Inc. and Sprague Energy Corp. In this action the United States sought from both defendants the recovery of past response costs with respect to Old ATC Refinery Site in Wilmington, North Carolina under Section 107(a) of CERCLA, 42 U.S.C. 9607(a), and from Axel Johnson Inc., penalties under Section 109(c) of CERCLA, 42 U.S.C. 9609(c), for failure to comply with the terms of an Administrative Order on Consent and punitive damages under section 107(c)(3), 42 U.S.C. 9607(c)(3), for failing to properly provide removal action upon an Order of the President. The consent decree resolves claims for past response costs at the Site against both defendants and the claims for penalties and punitive damages against Axel Johnson Inc. Under the consent decree, defendants have agreed to pay $7,000,000 to the Superfund.

The Department of Justice will receive comments relating to the proposed consent decree for a period of thirty (30) days from the date of this publication. Comments should be addressed to the Assistant Attorney General, Environment and Natural Resources Division. P.O. Box 7611, U.S. Department of Justice, Washington, DC 20044-7611, and should refer to United States v. Sprague Energy Corp. et al., DJ # 90-11-2-1192/3.

The proposed consent decree may be examined at the office of the United States Attorney for the Eastern District of North Carolina, 310 New Bern Avenue, Suite 800, Federal Building, Raleigh, NC 27601, and at the Region 4 office of the Environmental Protection Agency, Atlanta Federal Center, 61 Forsyth Street, Atlanta, GA 30303. A copy of the proposed consent decree may also be obtained by mail from the Consent Decree Library, P.O. Box 7611, U.S. Department of Justice, Washington, DC 20044-7611, or by faxing a request to Tonia Fleetwood, fax no. (202) 514-0097, phone confirmation number (202) 514-1547. In requesting a copy, please enclose a check in the amount of $4.75 (25 cents per page reproduction cost) payable to the U.S. Treasury. The check should refer to United States v. Sprague Energy Corp. et al., DJ # 90-11-2-1192/3.

Ellen M. Mahan,
Assistant Chief, Environmental Enforcement Section, Environment and Natural Resources Division.

[FR Doc. 02-23110 Filed 9-11-02; 8:45 am]

BILLING CODE 4410-15-M